NUCLEAR REGULATORY COMMISSION

[Docket No. 50-288; NRC-2011-0172]

Reed College, Reed Research Nuclear Reactor, Renewed Facility Operating License No. R-112

AGENCY: Nuclear Regulatory Commission.

ACTION: Notice of issuance.

ADDRESSES: Please refer to Docket ID NRC-2011-0172 when contacting the NRC about the availability of information regarding this document. You may access information related to this document, which the NRC possesses and is publicly-available, using the following methods:

• Federal Rulemaking Web site: Go to http://www.regulations.gov and search for Docket ID NRC-2011-0172. Address questions about NRC dockets to Carol Gallagher; telephone: 301-492-3668; email: Carol.Gallagher@nrc.gov.

• NRC's Agencywide Documents Access and Management System (ADAMS): You may access publicly-available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. For details with respect to the application for renewal, see the licensee's letter dated August 29, 2007 as supplemented by letters dated January 26, July 30, October 15, 2010, and May 20, August 3, December 12, 2011, and January 27, and March 26, 2012, is available electronically under ADAMS Accession Nos. ML092310567, ML100610121, ML102360016, ML102990489, ML111520559, ML11222A026, ML113630145, ML12039A147 and ML12100A075. Also see the license's annual reports for years 2003-2004 (ADAMS Accession No. ML043620310), 2004-2005 (ADAMS Accession No. ML052930194), 2005-2006 (ADAMS Accession No. ML062850518), 2006-2007 (ADAMS Accession No. ML073040191), 2007-2008 (ADAMS Accession No. ML082890533), 2008-2009 (ADAMS Accession No. ML092720865), 2009-2010 (ADAMS Accession No. ML102440042), and 2010-2011 (ADAMS Accession No. ML11221A161).

• NRC's PDR: You may examine and purchase copies of public documents at the NRC's PDR, Room O1-F21, One White Flint North, 11555 Rockville Pike, Rockville, Maryland 20852.

FOR FURTHER INFORMATION CONTACT: Geoffrey Wertz, Office of Nuclear Reactor Regulation, U.S. Nuclear Regulatory Commission, Rockville, MD 20852. Telephone: (301) 415-0893; fax number: (301) 415-3031; email: Geoffrey.Wertz@nrc.gov.

SUPPLEMENTARY INFORMATION: The U.S. Nuclear Regulatory Commission (NRC or the Commission) has issued renewed Facility Operating License No. R-112, held by Reed College (the licensee), which authorizes continued operation of the Reed Research Reactor (RRR), located in Portland, Oregon. The RRR is a pool-type, natural convection, light-water cooled, and shielded TRIGA (Training, Research, Isotope Production, General Atomics) reactor fuel. The RRR is licensed to operate at a steady-state power level of 250 kilowatts thermal power. The renewed Facility Operating License No. R-112 will expire 20 years from its date of issuance.

The renewed facility operating license complies with the standards and requirements of the Atomic Energy Act of 1954, as amended (the Act), and the Commission's rules and regulations. The Commission has made appropriate findings as required by the Act and the Commission's regulations in Title 10, Chapter 1, “Nuclear Regulatory Commission,” of the Code of Federal Regulations (10 CFR), and sets forth those findings in the renewed facility operating license. The agency afforded an opportunity for hearing in the Notice of Opportunity for Hearing published in the Federal Register on August 19, 2011 (76 FR 52018-52022). The NRC received no request for a hearing or petition for leave to intervene following the notice.

The NRC staff prepared a safety evaluation report for the renewal of Facility Operating License No. R-112 and concluded, based on that evaluation, the licensee can continue to operate the facility without endangering the health and safety of the public. The NRC staff also prepared an Environmental Assessment and Finding of No Significant Impact for the renewal of the facility operating license, noticed in the Federal Register on March 30, 2012 (77 FR 19362-19366), and concluded that renewal of the facility operating license will not have a significant impact on the quality of the human environment.

Dated at Rockville, Maryland, this 25th day of April, 2012.
For the Nuclear Regulatory Commission.
Jessie F. Quichocho,
Chief, Research and Test Reactors Licensing Branch, Division of Policy and Rulemaking, Office of Nuclear Reactor Regulation.

[FR Doc. 2012-10705 Filed 5-2-12; 8:45 am]

BILLING CODE 7590-01-P